DEPARTMENT OF TRANSPORTATION

Federal Aviation Administration

10th Meeting: RTCA Special Committee 216/Aeronautical Systems Security (Joint Meeting With EUROCAE WG-72)

AGENCY: Federal Aviation Administration (FAA), DOT.

ACTION: Notice of RTCA Special Committee 216 meeting; Aeronautical Systems Security (Joint meeting with EUROCAE WG-72).

SUMMARY: The FAA is issuing this notice to advise the public of a meeting of RTCA Special Committee 216: Aeronautical Systems Security (Joint meeting with EUROCAE WG-72).

DATES: The meeting will be held September 15-17, 2009. September 15th from 8:30 a.m. to 5 p.m., September 16-17, 2009 from 9 a.m. to 5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 216/Aeronautical Systems Security (Joint meeting with EUROCAE WG-72) meeting. The agenda will include:

• SC-216 Specific Approval of the Summary of the 9th meeting held May 19-21, 2009, RTCA Paper No. 144-09/SC216-019, and Action Item Reports (Brief).

• Welcome/Introductions/Administrative Remarks.

• Agenda Overview.

• WG72 and SC216 Reports.

• Common Items/Issues Discussion.

• WG72/SC216 Subgroup Reports and Status Reviews.

• Subgroup Meetings/Break-outs.

• WG72 part 3 with SC216 SG2.

• WG72 parts 4/5 with SC216 SG3.

• Joint Meeting Continued.

• Establish Dates, Location, and Agenda for Next Meeting(s).

• Any Other Business.

• Subgroup Meetings/Break-outs (To 5 p.m. Thursday).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 17, 2009.
Meredith Gibbs,
Staff Specialist, RTCA Advisory Committee.

[FR Doc. E9-20275 Filed 8-21-09; 8:45 am]

BILLING CODE 4910-13-P